DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Strategic Prevention Framework State Incentive Grant (SPF SIG) Program (OMB No. 0930-0279) Revision

SAMHSA's Center for Substance Abuse Prevention (CSAP) is responsible for the evaluation instruments of the Strategic Prevention Framework State Incentive Grant (SPF SIG) Program. The program is a major national initiative designed to: (1) Prevent the onset and reduce the progression of substance abuse, including childhood and underage drinking; (2) reduce substance abuse related problems in communities; and (3) build prevention capacity and infrastructure at the State/territory/tribe and community levels.

Five steps comprise the SPF:

Step 1: Profile population needs, resources, and readiness to address needs and gaps.

Step 2: Mobilize and/or build capacity to address needs.

Step 3: Develop a comprehensive strategic plan.

Step 4: Implement evidence-based prevention programs, policies, and practices.

Step 5: Monitor, evaluate, sustain, and improve or replace those that fail.

An evaluation team is currently implementing a multi-method, quasi-experimental evaluation of the first two SPF SIG cohorts receiving grants in FY 2004 and FY 2005. This notice invites comment on grantee-level, community-level, and participant-level data collection instruments designed for the cross-site evaluation of 16 Cohort 3 grantees receiving grants in FY 2006 and 20 Cohort 4 grantees. Since the ultimate goal is to fund all eligible jurisdictions, there are no control groups at the grantee level. The primary evaluation objective is to determine the impact of SPF SIG on the SAMHSA National Outcomes Measures (NOMs). Data collected at the grantee, community, and participant levels using the three instruments will be combined in an analysis that investigates the relationship, if any, between the SPF process and substance use outcomes at individual and community levels. The instruments will be included in an OMB review package submitted immediately after the expiration of the comment period and are the main focus of this announcement.

Grantee-Level Data Collection

Two instruments were developed for assessing grantee-level effects. Both instruments are guides for interviews that will be conducted by the grantees' evaluators twice over the life of the SPF SIG award. These instruments are modified versions of those used in the SPF SIG Cohort 1 and 2 Cross-Site Evaluation Study (OMB No. 09300279). The total burden of the original instruments has been reduced by deleting several questions and replacing the majority of open-ended questions with multiple-choice-response questions. The Strategic Prevention Framework Implementation Interview Protocol will be used to assess the relationship between SPF implementation and change in the NOMs. The Infrastructure Instrument will capture data to assess infrastructure change and to test the relationship of this change to outcomes.

Prevention infrastructure refers to the organizational features of the system that delivers prevention services, including all procedures related to planning, data management systems, workforce development, intervention implementation, evaluation and monitoring, financial management, and sustainability. The estimated annual burden for grantee-level data collection is outlined below:

Grantee Level Instrument Burden Estimate
Survey type | Content description | Respondent | Burden per respondent (hrs.) | Number of respondents | Number of responses per respondent | Total burden (hrs.)
Grantee-Level Instrument (GLI)
Grantee SPF implementation | SEW activities; SPF activities, including cultural competence through all 5 steps | Grantee | 3.5 | 36 | 2 | 252
Grantee Infrastructure | Grantee progress over time toward implementation of these best practices | Grantee | 1.25 | 36 | 2 | 90
Total burden |  |  |  |  |  | 342
Average annual burden over 4 Years |  |  |  |  |  | 85.5

Community-Level Data Collection (Revision)

The Community-Level Instrument is a two part, web-based survey for capturing information about SPF SIG implementation at the subrecipient community level. The instrument is a modified version of the one in use in the SPF SIG Cohorts 1 and 2 Cross-Site Evaluation Study (OMB No. 09300279). The total burden of the original instrument was reduced by deleting several questions.

Part 1 of the instrument focuses on the five SPF SIG steps and efforts to ensure cultural competency throughout the SPF SIG process. Part 2 will capture data on the specific intervention(s) implemented at the community level, including both individual-focused and environmental prevention strategies. Part 2 is a modular instrument that includes separate subforms for each of the eight different intervention types. This part will be completed for each intervention implemented during the reporting period, selecting only those subforms that apply to the interventions being reported. Community partners receiving SPF SIG awards will be required to complete the entire online survey once and enter updates every six months, using a secure password system. The estimated annual burden for community-level data collection is displayed in the next table. Note that the total burden assumes an average of 15 community-level subrecipients per grantee (a total of 540 respondents), an average of three distinct interventions implemented by each community, and two survey updates per year. Additionally, some questions will be addressed only once and the responses will be used to pre-fill subsequent updates. As community partners work through the SPF steps, they will report only on step-related activities. For example, needs assessment activities will likely precede monitoring and evaluation activities. Thus, respondents will answer questions related to needs assessment in the first few reports but will not need to address monitoring and evaluation items until later in the implementation process.

Community Level Instrument Burden Estimate
Survey type | Content description | Respondent | Burden per respondent (hrs.) | Number of respondents | Number of responses per respondent | Total burden (hrs.)
Community-Level Instrument (CLI)
Reporting Period 1
Part I, 1-20 | Community Contact Information | Grantee | 1.5 | 36 | 1 | 54
Part I, 21-172 | Community SPF Activities | Community | 3.0 | 540 | 1 | 1,620
Part II, 1-33 | Prevention Intervention Information | Community | .67 | 540 | 3 | 1,085.4
Part II, 34-138 | Intervention Type-Specific Information | Community | .33 | 540 | 3 | 534.6
Total burden and cost Period 1 |  | Grantee |  |  |  | 54
|  | Community |  |  |  | 3,240
CLI Part I Reporting Period 2-4 (Annual Updates)
Part I, 1-20 | Community Contact Information | Grantee | .25 | 36 | 3 | 27
Part I, 21-172 | Community SPF Activities | Community | .75 | 540 | 3 | 1,215
Community-Level Instrument (CLI) Burden
CLI Part II Reporting Periods 2-8 (Bi-Annual Updates)
Part II, 1-33 | Prevention Intervention Information | Community | .33 | 540 | 21 | 3,742.2
Part II, 34-138 | Intervention Type-Specific Information | Community | .17 | 540 | 21 | 1,927.8
Total burden and cost: Period 2-8 |  | Grantee |  |  |  | 27
|  | Community |  |  |  | 6,885
Total burden and cost over 8 reporting periods |  | Grantee |  |  |  | 81
|  | Community |  |  |  | 10,125
Average annual burden and cost over 4 years |  | Grantee |  |  |  | 20.3
|  | Community |  |  |  | 2,531.3

Participant-Level Data Collection (New Section)

Participant-level data will be collected from all participants in direct service programs which last 30 days or more. Two instruments will be used for this purpose, one for participants aged 12-17 (youth instrument) and the other for participants aged 18 or older (adult instrument). The core sections of the two instruments will be the CSAP NOMs Adult and Youth Programs Survey Forms (OMB No. 09300230). Local evaluators will have the option of selecting one or more additional survey items from a standard menu of validated questions not included in the NOMs Instruments, based on site-specific targeted program outcomes. These optional questions will be added to the NOMs Instruments to create site-specific instruments. No site-specific instrument created in this fashion will exceed an average completion time of 50 minutes.

The participant-level instruments will be administered to each participant at program entry, program exit, and six months after program exit. The following burden estimation is based on the assumption that each of the 540 community subrecipients will serve 50 participants per year in direct-service interventions lasting 30 days or more, amounting to 27,000 participants per year.

Participant Level Instrument Burden Estimate
Survey type | Content description | Respondent | Burden per respondent (hrs.) | Number of respondents | Number of responses per respondent | Total burden (hrs.)
Participant-Level Instrument (PLI)
Baseline |  | Participant | .83 | 27,000 | 4 | 89,640
Intervention completion |  | Participant | .83 | 22,500 | 4 | 74,700
Follow-up |  | Participant | .83 | 18,900 | 4 | 62,748
Total |  |  | 2.5 | 68,400 |  |
Total burden over 4 Years |  |  |  |  |  | 227,088
Average annual burden over 4 Years |  |  |  |  |  | 56,772

Overall SPF-SIG Data Collection

Across the three instruments, it is estimated that the average number of annual respondents will be 36 grantee-level directors, 540 community-level directors, and 68,400 intervention-level participants. The average annual hour burden will be 685.2 hours for the 36 grantee-level directors (19 hours per grantee director); 2,531.3 hours for the 540 community-level directors (4.69 hours per community director); and 56,772 hours for 68,400 intervention-level participants (0.83 hours per intervention participant).

All Three Instrument Burden Estimate
Survey type | Respondent | Burden per respondent (hrs.) | Number of respondents | Total burden (hrs.)
GLI | Grantee | 19.00 | 36 | 685.2
CLI | Community | 4.69 | 540 | 2531.3
PLI | Participant | .83 | 68,400 | 56,772
Average Annual burden |  |  | 68,976 | 59,988.5
Total burden over 4 Years |  |  | 275,904 | 239,954

Written comments and recommendations concerning the proposed information collection should be sent by March 27, 2009 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: February 19, 2009.
Elaine Parry,
Acting Director, Office of Program Services.

[FR Doc. E9-4012 Filed 2-24-09; 8:45 am]

BILLING CODE 4162-20-P